DEPARTMENT OF ENERGY

Federal Energy Regulatory Commission

Notice of Intent To File an Application for a New License

May 16, 2000.

a. Type of Filing: Notice of Intent to File An Application for a New License.

b. Project No.: 2586.

c. Date Filed: April 24, 2000.

d. Submitted By: Alabama Electric Cooperative, Inc.—current licensee.

e. Name of Project: Conecuh River Hydroelectric Project.

f. Location: On the Conecuh River near the towns of Gantt and River Falls, in Covington County, Alabama.

g. Filed Pursuant to: Section 15 of the Federal Power Act.

h. Licensee Contact: Mike Noel, Alabama Electric Cooperative, Inc., 2027 East Three Notch Street, Andalusia, AL 36420 (334) 427-3248.

i. FERC Contact: Ron McKitrick, ronald.mckitrick@ferc.fed.us, (770 452-3778.

j. Effective date of current license: May 1, 1965.

k. Expiration date of current license: April 30, 2005.

l. Description of the Project: The project consists of the following two developments:

The Point “A” Development consists of the following existing facilities: (1) A 2,800-foot-long earthen dam comprised of a gated concrete spillway section; (2) a 700-acre reservoir at a normal water surface elevation of 170 feet msl; (3) a powerhouse, integral with the dam, containing three generating units with a total installed capacity of 5,200 kW, (4) a 0.39-mile-long, 46-kV transmission line; and (5) other appurtenances.

The Gantt Development consists of the following existing facilities: (1) A 1,562-foot-long earthen dam comprised of a gated concrete spillway section; (2) a 2,767-acre reservoir at a normal water surface elevation of 198 feet msl; (3) a powerhouse, integral with the dam, containing two generating units with a total installed capacity of 3,050 kW, and (4) other appurtenances.

m. Each application for a new license and any competing license applications must be filed with the Commission at least 24 months prior to the expiration of the existing license. All applications for license for this project must be filed by April 30, 2003.

David P. Boergers,
Secretary.

[FR Doc. 00-12727 Filed 5-19-00; 8:45 am]

BILLING CODE 6717-01-M